DEPARTMENT OF LABOR

Occupational Safety and Health Administration

Online OSHA Outreach Training Programs

AGENCY: Occupational Safety and Health Administration (OSHA), Labor.

ACTION: Notice of competition and request for applications for online occupational safety and health training providers.

SUMMARY: The U.S. Department of Labor, Occupational Safety and Health Administration (OSHA) seeks to ensure high quality online OSHA Outreach Training Program training courses for all participants. This notice announces the opportunity for interested organizations to submit applications to be authorized to deliver 10-hour and/or 30-hour OSHA Outreach Training Program courses in the construction industry, general industry, and maritime industry in an online format. Current OSHA-authorized online training providers must submit an application in order to be considered to offer online Outreach Training Program courses. Past performance will be considered as a factor in the selection process. Applications will only be accepted during the solicitation period and will be rated on a competitive basis. Complete application instructions are contained in this notice.

DATES: The Outreach Training Program online training provider applications for the delivery of online training must be received by the OSHA Directorate of Training and Education no later than 4:30 p.m., Central Time, on June 27, 2011. Requests for extension to this application deadline will not be granted.

A proposal conference will be held on April 19, 2011, at the OSHA Directorate of Training and Education, 2020 S. Arlington Heights Rd., Arlington Heights, Illinois 60005-4102. Attendees are required to register for this conference. Specific details are discussed in the Proposal Conference section of this notice.

Applicants selected to be OSHA Outreach Training Program online providers must attend a mandatory orientation meeting at the OSHA Directorate of Training and Education, 2020 S. Arlington Heights Rd., Arlington Heights, Illinois 60005-4102 at a time and date to be provided.

ADDRESSES: Submit applications to the attention of Don Guerra, Program Analyst, Office of Training and Educational Programs, OSHA Directorate of Training and Education, 2020 S. Arlington Heights Rd., Arlington Heights, Illinois 60005-4102.

FOR FURTHER INFORMATION CONTACT: Any questions regarding this opportunity should be directed to Don Guerra, Program Analyst, e-mail address guerra.don@dol.gov, or Jim Barnes, Director, Office of Training and Educational Programs, OSHA Directorate of Training and Education, e-mail address barnes.jim@dol.gov. Both can be reached at 847-759-7700.

SUPPLEMENTARY INFORMATION:

Overview of the OSHA Outreach Training Program

The OSHA Outreach Training Program was established during the early years of the Agency to provide an overview of OSHA and to rapidly disseminate basic occupational safety and health workplace hazard information to workers using independent authorized trainers. Courses are intended to provide information on worker rights, employer responsibilities, and how to file a complaint as well as focusing on work-related hazards. Outreach Training Program courses do not focus on or teach OSHA standards. Workers who complete the construction industry, general industry, maritime industry, or disaster site worker courses receive OSHA course completion cards from the authorized trainer who conducted the training.

The Outreach Training Program is a voluntary program. OSHA recommends Outreach Training Program courses as an introduction to worker rights, employer responsibilities, how to file a complaint and occupational safety and health hazard recognition for workers. However, some States have enacted laws mandating the training. In addition, some employers, unions, organizations or other jurisdictions may also require this training. Please note that Outreach Training Program courses do not meet specific training requirements contained in OSHA standards. Employers are responsible for training their workers on specific hazards of their job, as noted in many OSHA standards. A list of standards requiring training is found in OSHA Publication 2254 “Training Requirements in OSHA Standards and Training Guidelines” located at: http://www.osha.gov/pls/publications/publication.athruz?pType=Types&pID=1.

The OSHA Outreach Training Program guidelines contain instructions and assistance information for Outreach Trainers. Among the issues addressed in the guidelines are course topic requirements, minimum lengths for course topics, advertising restrictions, records retention, and reporting requirements. OSHA Outreach Training Program guidelines are located at: http://www.osha.gov/dte/outreach/construction_generalindustry/guidelines.html and http://www.osha.gov/dte/outreach/maritime/guidelines.html. The application must incorporate and comply with all of the requirements in these guidelines. OSHA periodically updates these guidelines. Online providers will be required to keep informed regarding changes to OSHA standards and Outreach Training Program guidelines and all courses must be updated in accordance with these changes. OSHA reserves the right to specify required content for inclusion in all online training modules including topics, course learning objectives, training goals, content, interactive activities, and exams. For example, OSHA recently mandated a 2-hour “Introduction to OSHA” module that must be included in all 10-hour and 30-hour courses. The Occupational Safety and Health Act covers private sector employers and their employees in the 50 States and certain territories and jurisdictions under Federal authority. Those jurisdictions include the District of Columbia, Puerto Rico, the Virgin Islands, American Samoa, Guam, Northern Mariana Islands, Wake Island, Johnston Island, and the Outer Continental Shelf Lands as defined in the Outer Continental Shelf Lands Act. OSHA training programs such as the Outreach Training Program are intended for workers covered under the Occupational Safety and Health (OSH) Act of 1970, and within the Agency's jurisdiction. In addition, distribution of promotional materials for online training outside OSHA jurisdiction is prohibited.

The OSHA 10- and 30-hour training courses can be delivered by OSHA-authorized trainers either in person or through Web-based distance learning. In recent years, OSHA has sought to make this training more readily available to workers by authorizing a number of training providers to provide Web-based courses. OSHA has received many more requests for authorization to deliver online outreach training than can feasibly be granted, given the OSH Act's requirement that OSHA supervise the training programs it initiates. Today's Federal Register notice invites individuals or entities that currently maintain authorized-trainer status to submit applications for specific authorization to provide online training.

To provide an orderly process for evaluating the comparative strengths of entities that wish to be authorized online trainers, OSHA has decided to invite proposals. Although this competitive process is in some ways similar to that used in procurement, no products or services are sought for OSHA's use; the present Federal Register notice is not a contract or procurement action.

OSHA will enter into 5-year, nonfinancial cooperative agreements with successful applicants. These authorization agreements are intended solely to facilitate the ongoing monitoring and evaluation of worker safety training provided by authorized online trainers. These cooperative agreements will not constitute a grant or financial assistance instrument, and OSHA will provide no compensation to authorized trainers.

Selection Guidelines

OSHA does not have a predetermined number of organizations to be selected as authorized online trainers for the OSHA Outreach Training Program courses. Rather, the number of organizations selected will be determined according to the qualifications of the applicant organizations, their ability to provide quality interactive online training, their ability to conduct online OSHA Outreach Training Program courses for workers, and their compliance with the program guidelines. Training must be delivered in a manner that employees receiving it are capable of understanding.

Applicant Eligibility

Applicant organizations must be headquartered within the United States in order to be eligible to apply for this opportunity. Both for profit and nonprofit training organizations are eligible to apply. Nonprofit organizations, including qualifying labor unions and community-based and faith-based organizations that are not an agency of a State or local government are eligible to apply. State or local government-supported institutions of higher education are eligible to apply.

Each organization must demonstrate that:

(1) Training or education is part of its mission and more than 50% of its staff and dollar resources are devoted to training or education to be eligible to apply;

(2) It has the appropriate infrastructure and experience in developing, conducting, and evaluating online training;

(3) It has experience in developing, delivering, updating and evaluating occupational safety and health training;

(4) It has or will contract with one or more authorized OSHA Outreach Training Program trainers supporting each of the courses for which it is submitting an application. These trainers must demonstrate that:

(a) They each have a minimum of 3 years training experience;

(b) They each are in good standing (not on probation, suspended, or revoked as defined in OSHA's Investigation and Review Procedures).

Funding Provisions

OSHA provides no funding to OSHA Outreach Training Program online trainers. The OSHA Outreach Training Program online trainers will be expected to support their OSHA outreach training through their normal fee structures.

Cooperative Agreement Duration

Selected applicants will sign five year non-financial cooperative agreements with OSHA. The agency reserves the right to revoke the authorization of an online training provider for failure to comply with program guidelines and requirements, or for any illegal conduct. With satisfactory performance by the online training provider, agreements may be renewed without additional competition for an additional five years.

Proposal Conference

The proposal conference is intended to provide potential applicants with information about the OSHA Outreach Training Program, OSHA expectations for online trainers, online courses and methods of instruction, and administrative and program requirements for OSHA Outreach Training Program online trainers. The OSHA Directorate of Training and Education will hold one proposal conference.

The proposal conference is scheduled for April 19, 2011, at the OSHA Directorate of Training and Education, 2020 S. Arlington Heights Rd., Arlington Heights, Illinois 60005-4102.

It is necessary for attendees to register for this proposal conference. Applicants interested in attending this conference may contact Don Guerra, Program Analyst, or Jim Barnes, Director, Office of Training and Educational Programs, OSHA Directorate of Training and Education, 2020 S. Arlington Heights Rd., Arlington Heights, Illinois 60005-4102, telephone (847) 759-7700. Required registration information includes:

(1) Name and street address of the organization.

(2) Name, title, telephone number, and e-mail address of the attendees.

Application and Submission Information

The submission is to consist of one original and two copies of the application. Applications must be double-spaced, in 12-point font, with all pages numbered including any attachments. The program narrative must not exceed 30 single-sided pages or be bound or stapled. Attachments must only include essential documents that are relevant to this program. Attachments must also include a CD that represents an accurate sample of the required “Introduction to OSHA” module the applicant would include in the proposed Outreach Training Program; the corresponding storyboard for the sample module; and screenshots or CD of other types of interactive screens not included in the sample module. Applicants must address each of the following program points in their application.

(1) Identifying and Eligibility Information. Applicants must provide details for each of the following points:

(a) Provide the name, address and DUNS number of the organization.

(b) Provide the street address of the organization. A post office box will not be accepted.

(c) Provide the name, title, telephone number, and e-mail address of the project director who can answer questions regarding the application.

(d) Demonstrate that training or education is part of the mission and more than 50% of staff and dollar resources are devoted to training or education.

(e) Show appropriate infrastructure and experience in developing, conducting, and evaluating online training.

(f) Clearly demonstrate experience in developing, updating, conducting and evaluating occupational safety and health training.

(g) Demonstrate that one or more authorized OSHA Outreach Training Program trainers will support each of the courses for which an application is submitted. Demonstrate that each trainer:

(i) has a minimum of 3 years training experience;

(ii) is in good standing (not on probation, suspended, or revoked as defined in OSHA's Investigation and Review Procedures).

(2) Authority to Apply. Provide a copy of the resolution by the Board of Directors, Board of Regents, company president, Chief Executive Officer (CEO) or other governing body of the organization approving the submittal of an application to OSHA to become an OSHA Outreach Training Program online provider.

(3) Program Summary. The program summary is a brief one-to-two page single-sided, double-spaced abstract that succinctly summarizes the proposed project and provides information about the applicant organization along with key staff contact information. It must also include information on which Outreach Training Program course would be offered online, and any relevant language or target audience information. Submissions that are not in accordance with this submission requirement will not be fully considered.

(4) Program Narrative. The program narrative must not exceed 30 single-sided, double-spaced pages. Attachments will not be included in the 30 page count. Specific details regarding the program narrative are discussed in the next section. Submissions that are not in accordance with this submission requirement will not be fully considered. The program narrative must be organized in the following manner:

(a) Organizational experience and qualifications in occupational safety and health training;

(b) Organizational experience in designing online worker training;

(c) Staff experience and qualifications in occupational safety and health training;

(d) Staff experience in designing online worker training;

(e) Course content;

(f) Course design and development plan;

(g) Technical capabilities;

(h) Administrative capabilities;

(i) Trainee Evaluation.

(5) Attachments. Attachments must only include supporting documentation that is relevant to this program such as organization charts, staff resumes, and advertising materials. Attachments must also include a CD that contains an accurate sample of the required 2-hour “Introduction to OSHA” module; the corresponding storyboard for the sample module; and screenshots or CD of other types of interactive screens not included in the sample module.

Program Narrative

The program narrative consists of information regarding organizational experience and qualifications, staff experience and qualifications, course content, course design and development, technical capabilities, administrative capabilities, and trainee satisfaction survey sections. Applicants must provide details for each of the following points:

(1) Organizational Experience and Qualifications.

(a) Describe the background and number of years experience developing, delivering, revising and evaluating worker occupational safety and health training including the number of classes offered, number of trainees taught in each class, and number of trainee contact hours for each course during the last three years. Indicate the types of occupational safety and health courses previously developed including the title and number of trainee contact hours for each.

(b) Describe the background and the number of years of experience in designing, delivering and evaluating online training including the number of classes offered, number of trainees taught in each class and number of trainee contact hours for each course during the last three years. Provide the types of online courses previously developed including the title and number of contact hours for each. Specifically note online occupational safety and health courses. Provide Web site address for verification purposes.

(c) Describe the existing capabilities for data security and privacy, technical support, and facilitation of trainee registration supporting an online training environment.

(d) Describe the current authentication process which randomly occurs throughout the course that verifies that the same person who registers for the course is the same person who participates in, completes, and receives credit for the course. Specific details are included in “Course Design.”

(e) Status as a Training Organization. This section applies only to applicants that are not colleges or universities. The applicant must show that training or education is a principal activity of the organization. Through audit reports, annual reports, or other documentation, the applicant must clearly demonstrate that for the last two years more than 50% of the organization's funds have been used for training and education activities and more than 50% of staff resources have also been used for this purpose.

(f) Customer Service. Provide specific details regarding the organization's customer service capabilities:

(i) Responding to questions from trainees on technical content and accuracy of the course content;

(ii) Handling of technical questions and concerns related to issues other than occupational safety and health;

(iii) Processing and distributing Outreach Training Program course completion cards to trainees in a timely manner;

(iv) Resolving problems associated with the course, whether receiving them via trainee satisfaction surveys or direct communication from a trainee;

(v) Issuing replacement cards to trainees in a timely manner including verification of trainee identity and training completion.

(2) Staff Experience and Qualifications.

(a) Identify the authorized OSHA Outreach Training Program trainers who will be involved in the development and review of the course. For each authorized trainer provide information regarding the authorizing Outreach Training Program organization, the course taken, the date of the training, and proof of the completion of training such as a copy of their trainer course completion card.

(b) Identify the authorized OSHA Outreach Training Program trainers who will be available to respond to trainee questions. For each authorized trainer provide information regarding the authorizing Outreach Training Program organization, the course taken, the date of the training, and proof of the completion of training such as a copy of their trainer course completion card.

(c) Describe the qualifications of the staff that will develop the Outreach Training Program online course. Include occupational safety and health experience, addressing all the topical areas covered in the course, training experience with workers, adults, and experience working with the target audience.

(d) Describe staff knowledge of and experience with OSHA standards and their application to hazard recognition and hazard abatement. Include resumes of staff members who will be involved with the course.

(e) Describe the trainer's fluency or background in the online course presentation language if the training will be offered in a language other than English.

(f) Describe staff knowledge of and experience in developing interactive online training courses. Include resumes of staff members who will be involved with the course.

(g) Provide a position description and/or minimum hiring qualifications for any positions that are currently vacant.

(3) Course Content. This competition emphasizes ten Outreach Training Program courses that train workers on worker rights, employer responsibilities, how to file a complaint and in the recognition and prevention of occupational safety and health hazards. Please note that 10-hour courses are intended to provide entry level construction, general industry, or maritime industry workers with general awareness training on recognizing and preventing hazards on a jobsite in addition to information on workers rights, employer responsibilities and how to file a complaint. Additionally, 30-hour courses are intended to provide more in-depth training to workers with some safety responsibility. A separate application must be submitted for each different course and language. Indicate which online course would be offered and in what language. The applicant must include a list of all the topics that would be offered (mandatory, elective, and optional topics based on current program guidelines), specify the learning objectives for each topic selected, and the time associated with each topic. The minimum completion time for each topic is 30 minutes, including each of the Focus Four construction hazards (falls, struck by, caught in or between, and electrical hazards). Topic selection must comply with current OSHA Outreach Training Program guidelines. OSHA periodically modifies the topics as program requirements change. For example, OSHA recently mandated a 2-hour “Introduction to OSHA” module be included in all 10-hour and 30-hour courses. Online courses must have the capability to quickly adapt to these changes.

(a) 10-Hour Construction Course. Topics consist of mandatory, elective and optional topics for the course. The application must include a list of each mandatory, elective, and optional topic to be covered, time spent on each topic, and learning objectives for each topic. Instructional time must be a minimum of 10 hours.

(b) 30-Hour Construction Course. Topics consist of mandatory, elective and optional topics for the course. The application must include a list of each mandatory, elective, and optional topic to be covered, time spent on each topic, and learning objectives for each topic. Instructional time must be a minimum of 30 hours.

(c) 10-Hour General Industry Course. Topics consist of mandatory, elective and optional topics for the course. The application must include a list of each mandatory, elective, and optional topic to be covered, time spent on each topic, and learning objectives for each topic. Instructional time must be a minimum of 10 hours.

(d) 30-Hour General Industry Course. Topics consist of mandatory, elective and optional topics for the course. The application must include a list of each mandatory, elective, and optional topic to be covered, time spent on each topic, and learning objectives for each topic. Instructional time must be a minimum of 30 hours.

(e) 10-Hour Maritime Industry Courses Topics consist of mandatory, elective and optional topics for each course. The application must include a list of each mandatory, elective, and optional topic to be covered, time spent on each topic, and learning objectives for each topic. Instructional time must be a minimum of 10 hours. A separate application must be submitted for each course that is proposed. Choose one or more of the following three courses:

(i) Shipyard Employment

(ii) Maritime Terminals

(iii) Longshoring

(f) 30-Hour Maritime Industry Courses Topics consist of mandatory, elective and optional topics for the course. The application must include a list of each mandatory, elective, and optional topic to be covered, time spent on each topic, and learning objectives for each topic. Instructional time must be a minimum of 30 hours. A separate application must be submitted for each course that is selected. Choose one or more of the following three courses:

(i) Shipyard Employment

(ii) Marine Terminals

(iii) Longshoring

(g) Applications for a course in a language other than English must provide details of how the course will be tailored to address the needs of the workers that speak this language. OSHA requires that all information pertinent to the course be submitted in English, even if the course will be offered in another language. Organizations proposing to develop Spanish-language training must use the OSHA Dictionaries (English-to-Spanish and Spanish-to-English) for terminology available at http://www.osha.gov/dcsp/compliance_assistance/spanish_dictionaries.html.

(h) If the application is for a targeted audience, provide specific details regarding the targeted audience, their need, and their interest in the course. Indicate the specific targeted audience for the course, such as roadway workers, landscapers, maintenance personnel, roofers, residential construction workers, etc.

(i) Course Orientation. Explain the course orientation page which must inform the trainee how to successfully complete the course. The orientation must discuss the following:

(i) Course objectives

(ii) System requirements

(iii) Course time out feature that ensures active participation

(iv) Navigational commands including help (trainer, technical, and course related), directional (forward and back), and menu/exit

(v) Time limit of three months to complete the 10-hour courses, and six months to complete the 30-hour courses

(vi) Testing policy and criteria; details are provided under “Course Design”

(vii) Identification of and contact information for the authorized trainer

(viii) Identification and contact information of technical support regarding computer-related problems

(ix) Printing or obtaining course materials on each course topic

(x) Printing an interim course completion document (certificate) at the end of the course

(xi) When and how a trainee will receive their OSHA Outreach Training Program course completion card

(xii) When and how the random trainee verification process during all phases of the course will be conducted

(4) Course Design. Applicants must address each of the following instructional design points in their application. Online training courses must supply effective training for participants. The use of an instructional systems design process for designing, developing, revising and evaluating online training is recommended. This methodology ensures that a course is instructionally sound and built with a structured approach throughout the entire development cycle. The following research-based instructional principles must be used when designing online training:

(a) A training needs assessment must be conducted prior to course development. The identification of training needs is the first step in a uniform method of instructional design. A training needs assessment collects data on audience knowledge, skills and attitudes regarding occupational safety and health awareness. It assists in identifying performance requirements and the gap between worker knowledge and what they need to know.

(b) Courses must have a worker focus and concentrate on occupational safety and health awareness appropriate to a worker including but not limited to hazard identification, abatement, prevention, and control. Courses must focus on familiarizing students with prevalent hazards in [construction or maritime or general industry] and with basic safety requirements; training should avoid extensive presentation of the technical requirements of OSHA standards.

(c) Training must create relevant interactive learning experiences based on learning objectives and clear training goals. Organize information to maximize concept understanding. Each topic lesson must begin with learning objectives and end with a topic summary. Instructional objectives must:

(i) Focus on the trainee rather than the instructor.

(ii) Measure the performance outcome the trainee is able to demonstrate.

(iii) Explain the condition under which the performance will take place.

(iv) State the degree or standard on which the performance will be evaluated (ex. percent of accuracy).

(d) Training must stimulate the trainee's prior knowledge and facilitate connections to new information.

(e) Training must engage the trainee with frequent interaction techniques and feedback.

(i) Provide training variety by using interactivity, high quality graphics, audio, video, animations, simulations, and forums.

(ii) Present instructional interactions that require trainee participation including problem solving and real-world case studies. Good quality interactivity includes guided practice opportunities and feedback.

(iii) OSHA requires a highly interactive, participatory online course. Interactivity Levels II-IV provide active learning for the trainee and are expected every 3-5 screens, or approximately 30% of the course. Provide examples of frequent and varied Level II-IV interactive activities which are contained in the online course such as screenshots or a CD that contains an accurate sample of one course module or multiple lessons.

(1) Level I-Passive Learning: Examples include graphics, pop-ups, graphic builds, and 2-D illustration;

(2) Level II-Limited Interaction: Examples include drag and drop, completing a statement, drill and practice, labeling, matching, sequencing, 2-D animation, video clips (ranging between 15-90 seconds in length), and performing multi-step tasks;

(3) Level III-Complex Participation: Examples include case studies, discovery/exploration, games, hidden hints, ranking, and categorizing/sorting;

(4) Level IV-Real-Time Participation: Examples include avatars, artificial simulation, practical application, role-playing, scenario branching, and 3-D animation.

(f) System capabilities must allow the trainee to print fact sheets and other supplementary materials.

(i) Provide each trainee the opportunity to print or receive a fact sheet on each topic. Fact sheets must highlight the learning objectives of each topic and emphasize hazard identification, avoidance, and control, not OSHA standards.

(ii) Provide one primary fact sheet per topic which covers the learning objectives of that topic. Make sure that the designs of the primary fact sheets are standardized.

(iii) Other fact sheets and supplementary materials may also be made available but their design does not have to be standardized.

(iv) Availability of fact sheets and other materials must be prominently displayed.

(v) Fact sheets and other materials must be easy to access.

(vi) Trainees must be given the option to print materials after passing topic tests.

(vii) The materials must be available in a general area.

(g) Testing. Applications must explain how the following elements are incorporated:

(i) Testing is mandatory at the completion of each topic and at the end of the course.

(ii) A test strategy must be developed for the online training course including linking content to test items and appropriately setting a passing score.

(iii) Test reliability must be proven by showing that it consistently yields comparable scores for trainees with comparable levels of knowledge and skills measured by the test.

(iv) Test validity must be established by showing that it measures the specific knowledge and skills that were intended to be measured.

(v) There are processes in place to ensure test integrity such as a no print feature and random test question selection.

(vi) Minimum pass rate is 70%.

(vii) A trainee is only allowed three attempts to pass a test. If a trainee has not passed a test in three attempts, the trainee is permanently excluded from retaking the training online. The training organization must have a mechanism in place to ensure that a disqualified trainee cannot retake the online course at a later date.

(viii) Minimum test length for each topic test is to be based upon the learning objectives developed for that module. The test must contain sufficient questions to adequately test the trainees learning of the material contained in each objective.

(ix) Minimum test length for the end-of-course test is to be based upon the learning objectives developed for the course. The test must contain sufficient questions to adequately test the trainees learning of the material contained in each objective.

(x) Test banks which contain a pool of potential questions for the final test (at a minimum) are required.

(xi) Test approaches must vary the questions and/or answers. Suitable options include randomizing answer choices and using a variety of test questions.

(xii) Trainees receive straightforward and effective remediation (feedback) when a question is answered incorrectly. Remediation must not over-simplify the course to where the trainee is simply given the answer. Trainees are given an opportunity to go back to the part of the lesson where the question was covered.

(xiii) Trainees cannot proceed to the end-of-course test until they pass all topic tests.

(xiv) Tests must evaluate trainees' knowledge of the learning objectives. Insignificant facts and trivial numeric data must not be tested. Negatively phrased (including use of “not”) and True/False questions are strongly discouraged, and must not make up more than 10% of the questions.

(h) Explain how best practices in screen design, text language, graphics, and audio and video will be used. Examples include using consistent design, uniform spacing and adequate top/bottom, left right margins; addressing one concept, procedure, or item of instruction per screen; ensuring copyright permissions; and using language that is simple, active, direct, etc.

(i) Explain how the course navigation is structured to be intuitive, transparent, and sequential and how it will guide each trainee to the next step whether taking a test, proceeding to the next lesson, or completing the evaluation.

(j) Describe the design for trainees who have minimal levels of computer-related skills and computer technical abilities.

(k) Indicate where the following notice is located at the beginning of the course: OSHA recommends Outreach Training Program courses as an orientation to occupational safety and health for workers. Workers must receive additional training, when required by OSHA standards, on the specific hazards of their job.

(5) Technical Capabilities. Applicants must provide specific details for each of the following technical points in their application.

(a) Data Security and Privacy. Specific data security principles are dependent upon the provider's business requirements for security services. All guardians of data are expected to manage, access, and utilize data in a manner that maintains and protects the security and confidentiality of that information. Documentation is required to enable the day-to-day efforts necessary to enforce data security policy and ensure policy is implemented on all platforms.

(i) Explain the management of all user IDs on all platforms.

(ii) Describe the authentication process which randomly verifies throughout each module that the trainee who registers for the course is the same trainee who participates and completes the training. Trainees must be told about any additional charges associated with random trainee verification during all phases of the course at the time of registration or enrollment. Secure login, unique ID, PIN, and passwords, and challenge questions based on third party data will not be considered sufficient. Examples include, but are not limited to the following:

(1) Scanned fingerprints or eyes

(2) Webcam

(3) Voice signature

(iii) Explain how the privacy policy will be clearly stated.

(iv) Describe how users will be made aware of anonymous data collection to be used for analysis.

(v) Explain the management of all access control lists on all platforms (users and permissions) and adherence to appropriate roles and responsibilities.

(vi) Explain the management of incident response and reporting such as network or server outages, third party security breaches, and loss of sensitive data.

(vii) Explain the annual security policy review which must be conducted due to the dynamic nature of the Internet.

(viii) Provide policy which handles disposal of data in a secure manner.

(ix) Provide established policies which safeguard backed-up data.

(x) Describe how controls are established in anticipation of attack from intelligent, rational and irrational adversaries with harmful intent.

(xi) The selling, trading, or disclosing of any and all trainee information to outside commercial sources is expressly prohibited.

(b) System Requirements. Describe the minimum system requirements required. Examples include, but are not limited to:

(1) 20 GB or hard disk space

(2) Macintosh, MS Word 98 or higher

(3) MS Word 2000 or higher and anti-virus software

(4) Windows Media Player 9

(5) Adobe Acrobat Reader 8

(6) PC or Mac: RAM 256 MB

(7) PC: 1 GHz Processor

(8) PC: Microsoft Internet Explorer 6.0 or Firefox 1.5

(9) Mac: G3 800 MHz

(10) Mac: Firefox 1.0 or Safari 1.3

(11) Flash Player 9

(12) Java v.5.0

(13) Video card and monitor

(14) Display capable of 1024 X 768 pixel resolution

(15) Speakers

(16) Sound card

(c) System Capabilities. Applications must address the following elements:

(i) Provide a list of system capabilities, including the number of servers and available bandwidths.

(ii) Describe how the course enables a full screen view in most instances. The screen layout (text, graphics, etc.) must be designed to eliminate scrolling (vertically or horizontally) in order to view the entire content area. Describe how the trainee will learn how to change the size of the screen view.

(d) System Controls. Applicants must provide details for each of the following points:

(i) Describe the estimated amount of time it will take a trainee to complete the training, and how this number was derived.

(ii) Describe the required delay mechanism for each content screen and how each screen is required viewing.

(iii) Explain the mechanism to ensure that trainees are timed out of their training session when there is no activity for 15 minutes.

(iv) The program must automatically gather information on the amount of time each trainee spends in the course. Describe the mechanism to ensure that the trainee completes the required 10 or 30 hours in the course. OSHA will not provide cards to trainees who have not spent a minimum of 10 or 30 hours in the course.

(v) OSHA requires that the 10-hour course be covered over a minimum of two days and the 30-hour course be covered over a minimum of four days. Explain how the online course will only permit a trainee to complete a maximum of 7.5 hours within the course of a 24-hour period.

(vi) Explain how each screen is required viewing and how a trainee is prevented from proceeding until a minimum amount of time elapses on each screen.

(vii) Explain how the trainee's progress is bookmarked allowing them to get back to where they left off after ending a training session.

(6) Administrative Capabilities. Applicants must address the following elements:

(a) Marketing and Recruitment. Explain the procedures for marketing the online training courses and recruiting trainees. Please note that authorized online Outreach Training Program providers may not engage in reselling their courses. They are expressly prohibited from offering, selling, or reselling their online training course from their individual Web sites through any other parties or Web sites, unless an exception is obtained in advance and in writing from OSHA. OSHA defines reselling as the use of business partners or Web sites other than that of the primary developer that act as “pass-through” links to the primary developer's Web site, allowing a student to purchase and access an online course; or any other marketing intermediaries, contractual distribution systems designed to distribute or promote services through a second party, or secondary-tiered provider.

(i) Explain procedures for marketing the online training course, promoting the status of the organization as an OSHA online Outreach Training Program trainer, and recruiting trainees. Distribution of promotional materials for online training outside OSHA jurisdiction is prohibited. The Occupational Safety and Health Act covers private sector employers and their employees in the 50 States and certain territories and jurisdictions under Federal authority. Those jurisdictions include the District of Columbia, Puerto Rico, the Virgin Islands, American Samoa, Guam, Northern Mariana Islands, Wake Island, Johnston Island, and the Outer Continental Shelf Lands as defined in the Outer Continental Shelf Lands Act.

(ii) Describe registration procedures including provisions for course cancellation, furnishing trainees with course materials, and tuition or fee collection.

(iii) Tuition and Fees. Provide the fee structure for each course. Explain how tuition or fees will be computed for each course, referencing the organization's current tuition and fee schedule. Describe tuition and fee procedures including provisions for the collection of tuition, cancellation fees and issuing refunds.

(b) Trainer Availability. Provide specific details regarding when and how the OSHA authorized trainer will send each trainee an introductory e-mail that introduces the trainer, the trainer's availability and contact information. The trainer's identity and contact information must be accessible on each content page via a help button, or something similar.

(c) Question Response. Trainees must be able to ask questions and receive a response from their trainer within a maximum of 24 hours after submitting their question. Describe the trainee response plan, how questions will be monitored to ensure accuracy, and how rapid question response will be ensured. Special consideration will be given to applicants providing real-time responses to trainee questions.

(d) Administrative Controls. Discuss how the course will:

(i) Track trainee course progress

(ii) Document test scores

(iii) Document the number of times each trainee takes a test

(iv) Verify the amount of time the trainee spent in the course

(v) Restrict trainee access to the final test until after all topic tests are successfully completed

(vi) Compile trainee data statistics, including test scores and time spent in the training

(vii) Compile and retain trainee questions and the length of time taken to respond to each trainee question

(viii) Randomly verify trainee identity and active participation throughout the training

(ix) Restrict the trainee from taking the online course again if they fail the course completion test 3 times

(e) Reporting. The electronic reporting system must be capable of providing mandatory reports consistent with current OSHA guidelines. Applicants must have the capability to submit reports in Excel format on a template provided by OSHA. OSHA periodically revises reporting requirements. Online providers are required to update reporting in accordance with revised OSHA guidelines. Reports documenting training are generally submitted monthly. OSHA may determine that reporting frequency may need to be increased based upon training volume. Explain how the electronic reporting system that will be used will provide the following information in Excel format:

(i) Number of trainees who complete the online course

(ii) Total time spent in training

(iii) Trainee Satisfaction Surveys (See additional detail below.)

(f) Records Retention. Current program guidelines state that records must be maintained for each trainee for five years. Online providers may establish a longer retention policy. OSHA reserves the right to request copies of these records for its purposes. Additional records addressed within this document including trainee satisfaction surveys and trainee test scores must also be retained by online providers for five years.

(g) OSHA Course Access. Awarded applicants must agree to provide OSHA with permanent access to the online course. Passwords and ID numbers must be provided to OSHA to allow for course monitoring.

(h) Program Administrative System. Provide a description of the systems that would be in place to administer the Outreach Training Program online course and to assure its integrity. Include information regarding:

(i) Maintaining trainee records in accordance with program guidelines

(ii) Ensuring that only individuals who complete the course receive trainee cards

(iii) Issuing new or replacement course completion cards and any related fees

(iv) Issuing interim course completion documents (certificates)

(7) Trainee Evaluation

(a) Satisfaction Survey. Each trainee must complete a satisfaction survey in order to receive an OSHA course completion card. OSHA will provide trainee satisfaction survey questions. Online providers may include additional survey questions. This information must be made clear to the trainee, at a minimum, at the end of the course. In each report of training completed, online providers must include an easy to understand summary of trainee feedback for each survey question and for essay type comments. The summary format may be a narrative, spreadsheet, graph or table. Provide a copy of a trainee satisfaction survey currently in use. Discuss the following trainee survey requirements:

(i) Explain how the question and essay comments will be summarized.

(ii) Describe how this satisfaction survey requirement will be conveyed to each trainee.

(iii) Trainee feedback is to be used to improve and refine course content and delivery. Explain how this has been previously accomplished and include specific examples.

(b) Follow-up Impact Survey. Each trainee must receive a follow-up impact survey to assess the effectiveness of the training after a 6-month period. If the trainee does not respond to the initial survey request, two additional requests must be sent. OSHA will provide trainee follow-up impact survey questions. Online providers may include additional survey questions. This information must be made clear to the trainee, at a minimum, at the end of the course. In each report of training completed, online providers must include an easy to understand summary of trainee feedback for each survey question and for essay type comments. The summary format may be a narrative, spreadsheet, graph or table. Provide a copy of a follow-up impact survey, if currently in use.

(i) Explain how the question and essay comments will be summarized.

(ii) Describe how this follow-up impact survey requirement will be conveyed to each trainee.

(iii) Trainee feedback is to be used to improve and refine course content and delivery. Explain how this has been previously accomplished and include specific examples.

Application Submission

Applications must be submitted to the attention of Don Guerra, Program Analyst, Office of Training and Educational Programs, OSHA Directorate of Training and Education, 2020 S. Arlington Heights Rd., Arlington Heights, Illinois 60005-4102.

The submission is to consist of one original and two copies of the application. The program narrative must not exceed 30 single-sided, double-spaced pages or be bound or stapled. Applications must be double-spaced, in 12-point font, with all pages numbered including any attachments. Attachments must only include essential documents that are relevant to this program. Attachments must also include a CD that represents an accurate sample of one course module or multiple lessons; the corresponding storyboard for the sample module or lessons; and screenshots or CD of various types of screens such as content and interactive.

Application Deadline

Applications must be received by the Directorate of Training and Education no later than 4:30 p.m., Central Time, on June 27, 2011. Requests for extension to this application deadline will not be granted.

Selection Criteria

Applicants will be selected based upon the following selection criteria including organizational experience and qualifications, staff experience and qualifications, course content, course design, technical capabilities, administrative capabilities, and trainee satisfaction surveys. Information must be presented in a manner that employees receiving it are capable of understanding. Technical panels will review applications against the criteria in the “Application and Submission Information” section of this notice and those listed below on the basis of 100 maximum points. Applications will be reviewed and rated as follows:

(1) Organizational Experience and Qualifications (20 points)

(a) Demonstrate successful experience designing, developing, delivering and evaluating occupational safety and health training and successful experience training adults.

(b) Demonstrate successful experience in developing interactive online training courses for the target audience in work-related subjects.

(c) Show positive customer service and responsiveness to problems and comments from previous trainees.

(d) Demonstrate compliance with Outreach Training Program guidelines.

(2) Staff Experience and Qualifications (10 points)

(a) Demonstrate considerable experience in developing interactive online training courses for adults in work-related subjects and for the target audience.

(b) Show successful training experience in occupational safety and health subjects with the application of OSHA standards to the recognition, avoidance, abatement, and prevention of workplace hazards.

(c) Staff resumes or applicable contractor resumes are attached to the application. Staff occupational safety and health related certifications are included as attachments. Resumes should demonstrate expertise in all topical areas in the online course. Authorized Outreach Training Program trainers must be identified. Verify trainer authorization status with a copy of their trainer course completion card or certificate.

(3) Course Content (15 points)

(a) Indicate which Outreach Training Program was selected. Also indicate if the program was designed for a language other than English.

(b) Include a list of each mandatory, elective, and optional topic to be covered, time spent on each topic, and the learning objectives for each topic. Indicate the manner in which the training course and materials are tailored to the training needs of the target audience.

(c) Explain how the course orientation section will facilitate the successful completion of the course by the trainee.

(4) Course Design (20 points)

(a) A training needs assessment will be conducted to identify worker needs and knowledge and to identify the hazards to be included in the course as “Optional” topics.

(b) The course has a worker focus and concentrates on occupational safety and health issues that are most important and appropriate to a worker.

(c) The course is structurally sound; it creates interactive learning experiences; it engages the trainee with frequent and diverse interactions and feedback; it allows training materials to be easily located and printed; it assesses the effectiveness of the training through tests and quizzes.

(5) Technical Capabilities (10 points)

(a) Explain the data security and privacy system that is in place to maintain and protect the confidentiality of the gathered information.

(b) Appropriate system requirements, capabilities, and controls are discussed. These include but are not limited to monitoring and recording the time a trainee spends in the course, the screen delay mechanism, and the timed-out mechanism.

(c) Explain the random trainee verification procedures used during all phases of the course.

(6) Administrative Capabilities (15 points)

(a) Demonstrate that registration procedures are reasonable including the ease of registration and provisions for cancellations.

(b) Show that the proposed tuition or fees are in conformance with the established policies of the applicant and the charges are reasonable.

(c) Clearly articulate the marketing and recruiting plans for the online training program selected.

(d) Clearly state when and how the trainee will receive the trainer's identity and contact information.

(e) Explain how the administrative controls that are in place will perform required tasks including track trainee course progress, document test scores, produce reports, and randomly verify trainee identify.

(f) Demonstrate the capability of reporting and recordkeeping systems.

(g) Demonstrate the adequacy of the system to administer the online program and assure its integrity.

(7) Trainee Evaluation (10 points)

(a) Provide details about the plan to evaluate trainee satisfaction with the online course including course content, instructor response to questions, and ease of use.

(b) Discuss the mechanism for ensuring that trainees are aware of the requirement to complete a trainee satisfaction survey in order to receive an OSHA trainee course completion card.

(c) Provide details about the plan to assess the effectiveness of the training after a 6-month period.

(d) Discuss the mechanism for collecting the follow-up impact survey.

(e) Include a sample trainee satisfaction survey and a sample follow-up impact survey.

(f) Include a description of how both trainee surveys will be summarized.

Application Evaluation and Selection Process

Online course applications will be reviewed by technical panels comprised of OSHA staff. The technical panels will review online course applications against the criteria listed in this notice to determine which applicants best meet the stated requirements. As part of the evaluation and selection process, OSHA may request additional information from applicants. This may include written requests for clarification, phone or in-person interviews, access to existing programs, and on-site visits of applicant facilities. The panels' recommendations to the Assistant Secretary are advisory in nature. The final decision will be made by the Assistant Secretary of Labor for Occupational Safety and Health.

Notification of Selection

Applicants will be notified by a representative of the Assistant Secretary of Labor for Occupational Safety and Health if their organization is selected as an OSHA Outreach Training Program online trainer. After being initially selected as an OSHA Outreach Training Program online provider, applicants must submit a complete course for OSHA review. OSHA will notify the applicant of any necessary revisions before authorization to conduct the online training is granted. Applicants selected to be OSHA Outreach Training Program online providers must attend a mandatory orientation meeting at the Directorate of Training and Education in Arlington Heights, Illinois at a time and date to be provided.

An organization may not conduct OSHA Outreach Training Program online courses until the program has been fully authorized and the organization has signed a non-financial cooperative agreement with OSHA. Please note that reselling of online OSHA Outreach Training Program courses is expressly prohibited unless an exception is obtained in advance and in writing from OSHA. The agency defines resellers as business partners or Web sites other than that of the primary developer that act as “pass-through” links to the primary developer's Web site, allowing a student to purchase and access an online course; or any other marketing intermediaries, contractual distribution systems designed to distribute or promote services through a second party, or secondary-tiered provider.

Notification of Non-Selection

Applicants will be notified in writing if their organization is not selected to be an OSHA-authorized online Outreach Training Program provider.

Non-Selection Appeal

All decisions by the Assistant Secretary of Labor for Occupational Safety and Health are final. The Department of Labor does not provide an appeal procedure for applicants that are not selected.

Authority: Section 21 of the Occupational Safety and Health Act of 1970 (29 U.S.C. 670).

Signed at Washington, DC, on March 23, 2011.
David Michaels,
Assistant Secretary of Labor for Occupational Safety and Health.

[FR Doc. 2011-7260 Filed 3-28-11; 8:45 am]

BILLING CODE 4510-26-P